DEPARTMENT OF COMMERCE

National Oceanic and Atmospheric Administration

[Docket No. 170718681-9471-01]

RIN 0648-XF575

Endangered and Threatened Wildlife and Plants; Endangered Species Act Listing Determination for Alewife and Blueback Herring; Correction

AGENCY: National Marine Fisheries Service (NMFS), National Oceanic and Atmospheric Administration (NOAA), Commerce.

ACTION: Notice; correction.

SUMMARY: We, NMFS, published in the Federal Register of June 19, 2019, a “not warranted” 12-month finding under the Endangered Species Act (ESA) for alewife (Alosa pseudoharengus), four alewife distinct population segments (DPS), blueback herring (Alosa aestivalis), and three blueback herring DPSs. This document corrects our significant portion of its range (SPR) analyses for blueback herring.

DATES: This finding was made on June 19, 2019.

ADDRESSES: The status review document for alewife and blueback herring is available electronically at: https://www.fisheries.noaa.gov/action/not-warranted-listing-determination-alewife-and-blueback-herring. You may also obtain a copy by submitting a request to the Protected Resources Division, NMFS GARFO, 55 Great Republic Drive, Gloucester, MA 01930, Attention: Alewife and Blueback Herring 12-month Finding.

FOR FURTHER INFORMATION CONTACT: Jean Higgins, NMFS Greater Atlantic Regional Fisheries Office, 978-281-9345.

SUPPLEMENTARY INFORMATION: On June 19, 2019, we issued a “not warranted” finding for alewife (Alosa pseudoharengus), four alewife distinct population segments (DPS), blueback herring (Alosa aestivalis), and three blueback herring DPSs (84 FR 28630). In making that finding, we determined that neither blueback herring nor any of the DPSs, specifically the Bb-Canada/Northern New England, Bb-Mid-Atlantic, and Bb-Southern Atlantic DPSs, were threatened or endangered throughout all or a significant portion of their ranges. In the June 19, 2019 Notice (hereafter Notice), we inadvertently omitted information related to the Status Review Team's (SRT) application of the SPR Policy (79 FR 37578; July 1, 2014) to the blueback herring DPSs and our subsequent findings. Consistent with the SRT's application of the SPR Policy to the alewife rangewide and to the alewife DPSs, which is described in the Notice, the SRT also applied the SPR Policy to the blueback herring population rangewide and to the blueback herring DPSs. The Notice provides a thorough discussion of the SPR Policy as applied to the blueback herring rangewide and our additional considerations, independent of the definition of “significant” in the policy given that the threshold for “significance” had recently been invalidated. In the Notice, however, we failed to include a discussion of the SRT's SPR analyses for the Bb-Canada/Northern New England, Bb-Mid-Atlantic, and Bb-Southern Atlantic DPSs, through which they found no evidence of a heightened risk of extinction now or in the foreseeable future in any portion of the ranges of these DPSs. Furthermore, we failed to state that we agreed with the SRT's analyses. Here, we provide corrections to our 12-month finding and provide notice that these analyses have also been included in the Status Review Report.

Additionally, in the SPR section of the Notice, within the rangewide analysis for blueback herring, our discussion of the Long Island Sound portion of the range requires clarification. Here, we clarify that the Long Island Sound portion of the range overlaps the Bb-Southern New England stock complex and the Bb-Mid-Atlantic DPS. As described in the Notice, some of the rivers in this portion occur within the Bb-Southern New England stock complex (the Gilbert-Stuart and Monument Rivers (Reid et al. 2018)), while other rivers are found in the Bb-Mid-Atlantic DPS (the Connecticut River and Mianus Rivers (Reid et al. 2018)). This clarifies that this portion does not exist solely within the Bb-Mid-Atlantic DPS.

Corrections

In the Federal Register of June 19, 2019 in FR Doc. 2019-12908, beginning on page 28663, in the preamble section, make the following corrections:

1. On page 28663, in the second column, in the first full paragraph, the first sentence is corrected to read:

Additionally, because in 2011, the petitioner identified the Long Island Sound portion of the range as a potential DPS, the SRT considered if this portion, which overlaps the Bb-Southern New England stock complex and the Mid-Atlantic DPS, would be considered “significant” under the SPR Policy.

2. On page 28663, in the second column, in the second full paragraph, the second sentence is corrected to read:

Notably, this area is found partially within the Bb-Mid-Atlantic DPS (discussed above and reviewed in Evaluation of Threats), and any information that may differ in the Long Island Sound portion of the range from other portions of the blueback herring range is expressed in the above descriptions with additional detail provided in the Status Review Report (NMFS 2019).

3. On page 28665, in the second column, after the first full paragraph, is corrected by adding the following paragraphs to read:

The SRT then applied the SPR Policy to each blueback herring DPS. In other words, the SRT evaluated whether there is substantial information indicating that any portions of any singular DPS may have a concentration of threats and should be further evaluated under the SPR Policy. After reviewing the best available data, the SRT found no information to suggest that any portion of the Bb-Canada/Northern New England, Bb-Mid-Atlantic, or Bb-Southern Atlantic DPSs stood out as having a heightened risk of extinction now or in the foreseeable future, and the SRT found no reason to further evaluate areas of any particular blueback herring DPS under the SPR Policy.

After reviewing the SRT's findings, we agree that there is no evidence to suggest that blueback herring are at heightened risk of extinction, now or in the foreseeable future, in any particular area of a DPS. Thus, we find no evidence that a significant portion of one of the blueback herring DPSs is threatened or endangered and accordingly, consistent with the SPR Policy, we do not reach the second question identified in the SPR Policy of whether a portion of any blueback herring DPS is biologically significant.

Authority: 16 U.S.C. 1531 et seq.

Dated: October 1, 2019.
Samuel D. Rauch, III,
Deputy Assistant Administrator for Regulatory Programs, National Marine Fisheries Service.

[FR Doc. 2019-21698 Filed 10-3-19; 8:45 am]

BILLING CODE 3510-22-P